DEPARTMENT OF THE INTERIOR

Fish and Wildlife Service

Aquatic Nuisance Species Task Force Meeting

AGENCY: Fish and Wildlife Service, Interior.

ACTION: Notice of meeting.

SUMMARY: This notice announces a meeting of the Aquatic Nuisance Species (ANS) Task Force. The meeting topics are identified in the SUPPLEMENTARY INFORMATION.

DATES: The Aquatic Nuisance Species Task Force will meet from 8:30 a.m. to 5 p.m., Wednesday, November 13, 2002; from 8:30 a.m. to 5 p.m., Thursday, November 14, 2002; and from 8:30 a.m. to 1 p.m., Friday, November 15, 2002.

ADDRESSES: The ANS Task Force meeting will be held at the Radison Waikiki Prince Kuhio, 2500 Kuhio Avenue, Honolulu, Hawaii 96815. Phone 808-922-0811.

FOR FURTHER INFORMATION CONTACT: Sharon Gross, Executive Secretary, Aquatic Nuisance Species Task Force at 703-358-2308 or by e-mail at: sharon_gross@fws.gov.

SUPPLEMENTARY INFORMATION: Pursuant to section 10(a)(2) of the Federal Advisory Committee Act (5 U.S.C. App. I), this notice announces a meeting of the Aquatic Nuisance Species Task Force. The Task Force was established by the Nonindigenous Aquatic Nuisance Prevention and Control Act of 1990.

Topics to be covered during the ANS Task Force meeting include: a field trip to view local invasive species problems; an update of activities from each of the Task Force's regional panels; submission of a Rapid Response Plan by the Western Regional Panel; status and updates from several other Task Force committees including the Prevention Committee, the Communications, Education and Outreach Committee, and the Research Committee; approval of the Draft Green Crab Control Plan; status of State and Interstate ANS Management Plans and approval of the Massachusetts State Plan; an update on ballast water management activities; a panel on the status of Brown Tree Snake activities; and other topics.

Minutes of the meeting will be maintained by the Executive Secretary; Aquatic Nuisance Species Task Force, Suite 810, 4401 North Fairfax Drive, Arlington, Virginia 22203-1622, and will be available for public inspection during regular business hours, Monday through Friday.

Dated: September 25, 2002.
Cathleen I. Short,
Co-chair, Aquatic Nuisance Species Task Force, Assistant Director—Fisheries and Habitat Conservation.

[FR Doc. 02-25382 Filed 10-4-02; 8:45 am]

BILLING CODE 4310-55-M